DEPARTMENT OF THE TREASURY

Submission for OMB Review; Comment Request

January 13, 2014.

The Department of the Treasury will submit the following information collection requests to the Office of Management and Budget (OMB) for review and clearance in accordance with the Paperwork Reduction Act of 1995, Public Law 104-13, on or after the date of publication of this notice.

DATES: Comments should be received on or before February 18, 2014 to be assured of consideration.

ADDRESSES: Send comments regarding the burden estimate, or any other aspect of the information collection, including suggestions for reducing the burden, to (1) Office of Information and Regulatory Affairs, Office of Management and Budget, Attention: Desk Officer for Treasury, New Executive Office Building, Room 10235, Washington, DC 20503, or email at OIRA_Submission@OMB.EOP.gov and (2) Treasury PRA Clearance Officer, 1750 Pennsylvania Ave. NW., Suite 8141, Washington, DC 20220, or email at PRA@treasury.gov.

FOR FURTHER INFORMATION CONTACT: Copies of the submission(s) may be obtained by calling (202) 622-1295, emailing PRA@treasury.gov, or the entire information collection request may be found at www.reginfo.gov.

Internal Revenue Service (IRS)

OMB Number: 1545-0245.

Type of Review: Extension without change of a currently approved collection.

Title: Environmental Taxes.

Form: Form 6627.

Abstract: Form 6627 is used to figure the environmental tax on ozone-depleting chemicals (ODCs), imported products that used ODCs as materials in the manufacture or production of the product, and the floor stocks tax ODCs. Sections 4681 and 4682 impose a tax on ODCs and imported products containing ODCs.

Affected Public: Private sector: Businesses or other for-profits.

Estimated Annual Burden Hours: 13,084.

OMB Number: 1545-1265.

Type of Review: Extension without change of a currently approved collection.

Title: IA-120-86 Capitalization of Interest (TD 8584) (Final).

Abstract: This regulation requires taxpayers to maintain contemporaneous written records of production period estimates, to file a ruling request to segregate activities in applying the interest capitalization rules, and to request the consent of the Commissioner to change their methods of accounting for the capitalization of interest.

Affected Public: Individuals or households; Businesses or other for-profits.

Estimated Annual Burden Hours: 116,767.

OMB Number: 1545-1600.

Type of Review: Extension without change of a currently approved collection.

Title: REG-251703-96 (TD 8813—Final) Residence of Trusts and Estates—7701.

Abstract: Section 1161 of the Taxpayer Relief Act of 1997, Public Law 105-34, 111 Stat. 788 (1997), provides that a trust that was in existence on August 20, 1996 (other than a trust treated as owned by the grantor under subpart E of part I of subchapter J of chapter 1 of the Internal Revenue Code of 1986) and that was treated as a United States person on August 19, 1996, may elect to continue to be treated as a United States person notwithstanding section 7701(a)(30)(E) of the Code. The election will require the Internal Revenue Service to collect information. This regulation provides the procedure and requirements for making the election to remain a domestic trust.

Affected Public: Individuals or households.

Estimated Annual Burden Hours: 114.

OMB Number: 1545-1847.

Type of Review: Extension without change of a currently approved collection.

Title: Revenue Procedure 2004-29, Statistical Sampling in Sec. 274 Context.

Abstract: For taxpayers desiring to establish for purposes of Sec. 274(n) (2), (A), (C), (D), or (E) that a portion of the total amount of substantiated expenses incurred for meals and entertainment is excepted from the 50% limitation of Sec. 274(n), the revenue procedure requires that taxpayers maintain adequate documentation to support the statistical application, sample unit findings, and all aspects of the sample plan.

Affected Public: Private sector: Businesses or other for-profits.

Estimated Annual Burden Hours: 3,200.

Brenda Simms,
Treasury PRA Clearance Officer.

[FR Doc. 2014-00820 Filed 1-16-14; 8:45 am]

BILLING CODE 4830-01-P